DEPARTMENT OF LABOR

Employment and Training Administration

[TA-W-65,618]

First American Data Trace San Diego Branch San Diego, CA; Notice of Termination of Investigation

Pursuant to Section 221 of the Trade Act of 1974, as amended, an investigation was initiated on March 17, 2009 in response to a worker petition filed on behalf of the workers of First American, Data Trace San Diego Branch, San Diego, California.

The petitioners requested that the petition be withdrawn. Consequently, the investigation has been terminated.

Signed at Washington, DC, this 27th day of March 2009.
Richard Church,
Certifying Officer, Division of Trade Adjustment Assistance.

[FR Doc. E9-10233 Filed 5-4-09; 8:45 am]

BILLING CODE 4510-FN-P